DEPARTMENT OF HEALTH AND HUMAN SERVICES

Health Resources and Services Administration

Agency Information Collection Activities: Submission to OMB for Review and Approval; Public Comment Request; Rural Maternity and Obstetrics Management Strategies Program, OMB No. 0915-xxxx—NEW.

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than August 7, 2023.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the HRSA Information Collection Clearance Officer, at paperwork@hrsa.gov or call 301-443-3983.

SUPPLEMENTARY INFORMATION:

Information Collection Request Title: Rural Maternity and Obstetrics Management Strategies Program OMB No. 0915-xxxx—NEW.

Abstract: HRSA administers the Rural Maternity and Obstetrics Management Strategies (RMOMS) Program, which is authorized by sections 501(a)(2) and 711(b)(5) of the Social Security Act (42 U.S.C. 701(a)(2) and 912(b)(5), respectively), and sections 330A(e) and 330A-2 of the Public Health Service Act (42 U.S.C. 254c(e) and 254c-1b, respectively). These authorities allow HRSA to, among other things, award grants to promote rural health care services outreach by improving and expanding the delivery of health care services to include new and enhanced services in rural areas, through community engagement and evidence-based or innovative, evidence-informed models; as well as establish or continue collaborative improvement and innovation networks to improve access to, and delivery of, maternity and obstetrics care in rural areas.

The RMOMS program grants support networks that improve access to, and continuity of, maternal and obstetrics care in rural communities. The goals of the RMOMS program are to: (1) improve maternal and neonatal outcomes within a rural region; (2) develop a sustainable network approach to increase the delivery and access of preconception, prenatal, pregnancy, labor and delivery, and postpartum services; (3) develop a safe delivery environment with the support and access to specialty care for perinatal patients and infants; and (4) develop sustainable financing models for the provision of maternal and obstetrics care in rural hospitals and communities.

HRSA seeks OMB approval to collect information about RMOMS program grants using performance measures in HRSA's Electronic Handbooks via the Performance Improvement and Measurement System.

A 60-day notice published in the Federal Register on April 7, 2023, vol. 88, No. 67; pp. 20893-20894. There were no public comments.

Need and Proposed Use of the Information: For this program, performance measures were drafted to provide data to the program and enable HRSA to provide aggregate program data required by Congress under the Government Performance and Results Act of 1993. These measures cover the principal topic areas of interest to the Federal Office of Rural Health Policy, including: (1) consortium/network; (2) sustainability; (3) population demographics; (4) project specific domains. The annual collection of this information helps further inform and substantiate the focus and objectives of the RMOMS program.

Likely Respondents: The respondents will be recipients of the Rural Maternity and Obstetrics Management Strategies Program awards.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Rural Maternity and Obstetrics Management Strategies Program Performance Improvement and Measurement System | 10 | 1 | 10 | 9 | 90
Total | 10 |  | 10 |  | 90

Maria G. Button,
Director, Executive Secretariat.

[FR Doc. 2023-14325 Filed 7-6-23; 8:45 am]

BILLING CODE 4165-15-P